DEPARTMENT OF LABOR

Employment and Training Administration

[TA-W-58,785]

Saint Gobain Calmar, City of Industry, CA; Notice of Termination of Investigation

Pursuant to section 221 of the Trade Act of 1974, as amended, an investigation was initiated on February 3, 2006 in response to a worker petition filed by a company official on behalf of workers at Saint-Gobain Calmar, City of Industry, California.

The petitioner has requested that the petition be withdrawn. Consequently, the investigation has been terminated.

Signed at Washington, DC this 15th day of February 2006.
Richard Church,
Certifying Officer, Division of Trade Adjustment Assistance.

[FR Doc. E6-2970 Filed 3-1-06; 8:45 am]

BILLING CODE 4510-30-P